DEPARTMENT OF EDUCATION

National Committee on Foreign Medical Education and Accreditation

AGENCY: Department of Education, National Committee on Foreign Medical Education and Accreditation (NCFMEA).

ACTION: Notice; correction.

SUMMARY: On July 6, 2022, the Department of Education published a Federal Register notice seeking nominations of medical experts for appointment to fill three NCFMEA member positions. This notice corrects the date that the term of service for the three appointed positions will expire.

DATES: This correction is applicable July 21, 2022.

FOR FURTHER INFORMATION CONTACT: Karen Akins, Committee Management Officer, U.S. Department of Education. Telephone: (202) 401-3677. Email: Karen.Akins@ed.gov.

If you are deaf, hard of hearing, or have a speech disability and wish to access telecommunications relay services, please dial 7-1-1.

SUPPLEMENTARY INFORMATION: On July 6, 2022, the Department published a notice in the Federal Register (87 FR 40203) seeking nominations of medical experts for appointment of members to serve on the NCFMEA. The July 6, 2022 notice incorrectly stated that the term of service for the three approved positions would expire on September 30, 2022; however, the correct expiration date is September 30, 2028. Accordingly, the Department is correcting the date in the notice.

Program Authority: 20 U.S.C. 1002.

Correction: In FR Doc 2022-14302 appearing on page 40203 in the Federal Register of July 6, 2022 (87 FR 40203), we make the following correction:

1. On page 40203, in the first column, in the SUMMARY section, remove the number “2022” and add, in its place, the number “2028”.

Accessible Format: On request to the program contact person listed under FOR FURTHER INFORMATION CONTACT, individuals with disabilities can obtain this document and the July 6, 2022 notice in an accessible format. The Department will provide the requestor with an accessible format that may include Rich Text Format (RTF) or text format (TXT), a thumb drive, an MP3 file, braille, large print, audiotape, or compact disc or other accessible format.

Electronic Access to this Document: The official version of this document is the document published in the Federal Register. You may access the official edition of the Federal Register and the Code of Federal Regulations at www.govinfo.gov. At this site, you can view this document, as well as all other documents of the Department published in the Federal Register.

Miguel A. Cardona,
Secretary of Education.

[FR Doc. 2022-15752 Filed 7-20-22; 8:45 am]

BILLING CODE 4000-01-P